DEPARTMENT OF ENERGY

10 CFR Parts 429 and 431

[Docket Number EERE-2013-BT-STD-0033]

RIN 1904-AD02

Energy Conservation Program: Energy Conservation Standards for Portable Air Conditioners

AGENCY: Office of Energy Efficiency and Renewable Energy, Department of Energy.

ACTION: Reopening of public comment period.

SUMMARY: On June 13, 2016, the U.S. Department of Energy (DOE) published in the Federal Register a notice of proposed rulemaking (NOPR) for portable air conditioners. 81 FR 38398. The notice provided opportunity for submitting written comments, data, and information by August 12, 2016. DOE received a request from the Association of Home Appliance Manufacturers (AHAM), dated July 21, 2016, to extend the comment period until December 1, 2016.

DATES: The comment period for the proposed rule published on June 13, 2016 (81 FR 38398), is reopened. DOE will accept comments, data, and information regarding this rulemaking received no later than September 26, 2016.

ADDRESSES: Instructions: Any comments submitted must identify the NOPR for Energy Conservation Standards for Portable Air Conditioners, and provide docket number EERE-2013-BT-STD-0033 and/or regulatory information number (RIN) number 1904-AD02. Comments may be submitted using any of the following methods:

1. Federal eRulemaking Portal: www.regulations.gov. Follow the instructions for submitting comments.

2. Email: PortableAC2013STD0033@ee.doe.gov. Include the docket number and/or RIN in the subject line of the message. Submit electronic comments in WordPerfect, Microsoft Word, PDF, or ASCII file format, and avoid the use of special characters or any form of encryption.

3. Postal Mail: Mr. Bryan Berringer, U.S. Department of Energy, Building Technologies Office, Mailstop EE-5B, 1000 Independence Avenue SW., Washington, DC 20585-0121. If possible, please submit all items on a compact disc (CD), in which case it is not necessary to include printed copies.

4. Hand Delivery/Courier: The Appliance and Equipment Standards Program Staff U.S. Department of Energy, Building Technologies Office, 950 L'Enfant Plaza SW., 6th Floor, Washington, DC 20024. Telephone: (202) 586-6636. If possible, please submit all items on a CD, in which case it is not necessary to include printed copies.

Docket: The docket is available for review at www.regulations.gov, including Federal Register notices, framework documents, public meeting attendee lists and transcripts, comments, and other supporting documents/materials. All documents in the docket are listed in the www.regulations.gov index. However, not all documents listed in the index may be publicly available, such as information that is exempt from public disclosure.

A link to the docket Web page can be found at: https://www.regulations.gov/docket?D=EERE-2013-BT-STD-0033. This Web page contains a link to the docket for this document on the www.regulations.gov site. The www.regulations.gov Web page contains simple instructions on how to access all documents, including public comments, in the docket.

FOR FURTHER INFORMATION CONTACT:

Mr. Bryan Berringer, U.S. Department of Energy, Office of Energy Efficiency and Renewable Energy, Building Technologies, EE-5B, 1000 Independence Avenue SW., Washington, DC 20585-0121. Telephone: (202) 586-0371. Email: portable_ACs@ee.doe.gov.

Ms. Sarah Butler, U.S. Department of Energy, Office of the General Counsel, Mailstop GC-33, 1000 Independence Ave. SW., Washington, DC 20585-0121. Telephone: 202-586-1777; Email: Sarah.Butler@hq.doe.gov.

SUPPLEMENTARY INFORMATION:

On June 13, 2016, DOE published in the Federal Register a notice of proposed rulemaking (NOPR) for portable air conditioners. 81 FR 38398. The NOPR provided opportunity for submitting written comments, data, and information by August 12, 2016. DOE received a request from AHAM, dated July 21, 2016, to extend the comment period to December 1, 2016. AHAM and its members stated that they need more time to test a sufficient number of products using the recently published portable AC test procedure in order to provide substantive comments to this rulemaking. A reopening of the comment period would allow additional time that DOE believes is sufficient for AHAM and its members and other interested parties to test existing models to the test procedure, examine the data, information, and analysis presented in the portable air conditioner Technical Support Document, gather any additional data and information to address the proposed standards, and submit comments to DOE.

AHAM's request can be found at: https://www.regulations.gov/document?D=EERE-2013-BT-STD-0033-0024. In view of the request DOE has determined that a 45-day extension of the public comment period is appropriate. The comment period is reopened until September 26, 2016. DOE further notes that any submissions of comments or other information submitted between the original comment end date and the reopening of the comment period will be deemed timely filed.

Issued in Washington, DC, on August 8, 2016.
Kathleen B. Hogan,
Deputy Assistant Secretary for Energy Efficiency, Energy Efficiency and Renewable Energy.

[FR Doc. 2016-19356 Filed 8-12-16; 8:45 am]

BILLING CODE 6450-01-P